FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period period to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans# | Acquiring | Acquired | Entities
TRANSACTIONS GRANTED EARLY TERMINATION—01/08/2001
20005155 | Atmos Energy Corporation | Citizens Communications Company | Citizens Communications Company.
20010375 | Winn-Dixie Stores, Inc | Bruckmann, Rosser, Sherrill & Co., L.P | Delchamps, Inc., debtor-in-possession
|  |  | Interstate Jitney Jungle Stores, Inc., debtor-in-possession.
|  |  | Jitney Jungle Stores of America, Inc., debtor-in-possession.
|  |  | P&S Operations, Inc., debtor-in-possession.
|  |  | Pump & Save, Inc., debtor-in-possession.
|  |  | Southern Jitney Jungle Company, Inc., debtor-in-possession.
|  |  | Supermarket Cigarette Sales, Inc., debtor-in-possession.
TRANSACTIONS GRANTED EARLY TERMINATION—01/09/2001
20011034 | Aventis | aaiPharma Inc | aaiPharma Inc.
20011075 | U.S. Concrete, Inc | Blue Circle Industries, PLC | Blue Circle Materials Inc.
20011106 | University Community Hospital, Inc | Sun Coast Hospital, Inc | Sun Coast Hospital, Inc.
20011113 | Total Fina Elf S.A | Dickerson L. Whitney, Jr | McGean—Rohco Worldwide, Inc.
|  |  | McGean-Rohco, Inc.
20011177 | Westboro Properties LLC | Bunge International Limited | Bunge First Capital Limited.
TRANSACTIONS GRANTED EARLY TERMINATION—01/11/2001
20011081 | General Electric Company | R. Mark Bostick | Comcar Leasing, Inc.
20011103 | Madison Dearborn Capital Partners IV, L.P | Burt I. Harris, Sr | Harriscope of Los Angeles, Inc.
20011130 | Paul Levy | Rational Software Corporation | Rational Software Corporation
20011154 | The Kroger Co | Fleming Companies, Inc | Baker's Food Group, Inc.
20011159 | iBasis, Inc | Priceinteractive, Inc | Priceinteractive, Inc.
20011162 | Aurora Equity Partners II L.P | Har Technologies, Inc | Har Technologies, Inc.
20011178 | Infogrames Entertainment SA | Hasbro, Inc | Hasbro, Inc.
20011180 | Telephone and Data Systems, Inc. Voting Trust | Chorus Communications Group, Ltd | Chorus Communications Group, Ltd.
20011184 | Sola International, Inc | Charles E. Crews | Oracle Lens Manufacturing Corporation.
20011188 | Thomas H. Lee Equity Fund III, L.P | Covance Inc | Covance Clinical and Periapproval Services Ltd.
|  |  | Covance Pharmaceutical Packaging Services AG.
|  |  | Convance Pharmaceutical Packaging Services Inc.
20011190 | Polycom, Inc. | Accord Networks, Inc. | Accord Networks, Inc.
20011191 | KINO Management, LLC | IFCO Enterprises, Inc. | IFCO Enterprises, Inc.
20011192 | Anheuser-Bush Companies, Inc. | La Jolla Capital, Inc. | La Jolla Capital, Inc.
20011193 | United Auto Group, Inc. | George C. Andreas | Lantzsch-Andreas Enterprises, Inc.
20011196 | Citizens Communications Company | Berkshire Telephone Company | Berkshire Telephone Company.
20011198 | Business News Publishing Company II, LLC | Elsevier NV | Reed Elsevier Inc.
20011199 | McLeodUSA Incorporated | OSPG III, Inc. | OSPG III, Inc.
20011201 | Michael S. Smith | Stone Energy Corporation | Stone Energy Corporation.
20011202 | Western Distributing Company | Zulanas Partners | Zulanas Distributors, Inc.
20011206 | Kent P. Dauten | Paul B. Steeter, Sr. | Freed's Bakery, Inc.
20011208 | Bessemer Securities L.L.C. | Stanley G. Pride | Pride Manufacturing Company and Pride Golf Tee Company.
20011215 | American Express Company | Pacific Century Financial | Pacific Century Financial.
20011218 | ITOCHU Corporation | Allied Products Corporation | Allied Products Corporation.
20011223 | Kearny Mesa Financial Credit Union | Santel Federal Credit Union | Santel Federal Credit Union.
20011229 | Berkshire Hathaway Inc. | Manville Personal Injury Settlement Trust | Johns Manville Corporation.
TRANSACTIONS GRANTED EARLY TERMINATION—01/17/2001
20011115 | Hampshire Equity Partners II, L.P. | Connector Service Corporation | Connector Service Corporation.
20011140 | Northwestern Corporation | The Montana Power Company | The Montana Power Company.
20011152 | Dominion Resources, Inc | Powergen pic | LG&E Westmoreland Altavisa.
|  |  | LG&E Westmoreland Hopewell.
|  |  | LG&E-Westmoreland Southampton.
20011200 | Michael W. Lynch | Alcoa Inc. | Reynolds Metals Company.
20011203 | Converge, Inc | Vertical Net, Inc | NECX.com LLC.
20011204 | VerticalNet, Inc | Converge, Inc | Converge, Inc.
20011213 | GATX Corporation | El Camino Resources International, Inc | El Camino Resources, Ltd.
20011214 | Plum Creek Timber Company, Inc | Georgia-Pacific Corporation | GPW Timber, Inc., LRFP Timber, Inc., NPC Timber, Inc.
|  |  | N. America Timber Corp., NPI Timber, Inc., GNN Timber, Inc.
20011216 | Transcore Holdings, Inc | M. Albin Jubitz | EuroDAT Services, s.c.a.
|  |  | EuroDAT, Ltd.
|  |  | Jubitz Corporation.
20011217 | Transcore Holdings, Inc | Frederick K. Jubitz | EuroDAT Services, s.c.a.
|  |  | EruoDAT, Ltd.
|  |  | Jubitz Corporation.
20011225 | Tyco International Ltd | Pactiv Corporation | Pactiv Corporation.
20011230 | George Abi Zeid | AT&T Corp. | AT&T Corp.
20011231 | Inter-Tel, Incorporated | Convergent Communications, Inc. | Convergent Communications Services, Inc.
20011232 | Eni SpA | LASMO pic | LASMO pic
20011235 | SHC Investment Partnership | Donald R. Danner | Leland-Powell Fastners, Inc.
20011236 | SHC Investment Partnership | Joseph R. Exum | Leland-Powell Fastners, Inc.
20011242 | Steven B. Klinsky | Ron and Beverly Bailey | Strayer Education, Inc.
20011245 | M. Francois Pinault | Eugene M. Winner | Electric Supply Company of Asheville, Inc.
20011246 | Virginia Wadsworth Wirtz Trust | U.S. Bancorp | U.S. Bancorp.
20011247 | GTCR Fund VII, L.P | SBC Communications Inc | SecurityLink from Ameritech, Inc.
20011248 | J.R. Shaw | Randall L. Moffat | Moffat Communications Limited.
20011253 | Bernard Arnault | Donna Karan and Stephan Weiss | Gabrielle Studio, Inc.
20011263 | Frank Lyon, Jr. Trust | U.S. Bancorp | U.S. Bancorp.
TRANSACTIONS GRANTED EARLY TERMINATION—01/18/2001
20011176 | Baxter International Inc | Sera-Tec Biologicals Limited Partnership | Sera-Tec Biologicals Limited Partnership.
20011187 | Asyst Technologies, Inc | Glenn A. Roberson, Jr | Semifab, Inc.
20011228 | CarrAmerica Realty Corporation | FrontLine Capital Group | HQ Global Holdings, Inc.
20011237 | Centennial Communications Corp. | Hector R. Gonzalez | TPC Communications PR, Inc.
20011251 | Emulex Corporation | GigaNet, Inc. | GigaNet, Inc.
TRANSACTIONS GRANTED EARLY TERMINATION—01/19/2001
20011135 | Ralcorp Holdings, Inc | T&C Holdings Corporation | T&C Holdings Corporation.

FOR FURTHER INFORMATION CONTACT: Sandra M. Peay or Parcellena P. Fielding, Contact Representatives, Federal Trade Commission, Premerger Notification Office, Bureau of Competition, Room 303, Washington, DC 20580, (202) 326-3100.

By Director of the Commission.
Donald S. Clark,
Secretary.

[FR Doc. 01-3495 Filed 2-9-01; 8:45 am]

BILLING CODE 6750-01-M